DEPARTMENT OF TRANSPORTATION

Federal Aviation Administration

14 CFR Part 39

[Docket No. FAA-2024-0042; Project Identifier MCAI-2023-00659-R; Amendment 39-22759; AD 2024-10-13]

RIN 2120-AA64

Airworthiness Directives; Airbus Helicopters

AGENCY: Federal Aviation Administration (FAA), DOT.

ACTION: Final rule.

SUMMARY: The FAA is adopting a new airworthiness directive (AD) for all Airbus Helicopters Model AS332C, AS332C1, AS3322L, AS332L1, AS332L2, and EC225LP helicopters. This AD was prompted by a report of cracks on the fuel filter bowl (bowl) due to over-torquing. This AD requires visually inspecting the bowls of the right hand (RH) and left hand (LH) fuel filters for any cracks and seepage. Depending on the inspection results, this AD requires removing an affected fuel filter from service and replacing that part. This AD also allows a certain fuel filter to be installed on a helicopter if certain actions are accomplished. These requirements are specified in a European Union Aviation Safety Agency (EASA) AD, which is incorporated by reference. The FAA is issuing this AD to address the unsafe condition on these products.

DATES: This AD is effective August 13, 2024.

The Director of the Federal Register approved the incorporation by reference of a certain publication listed in this AD as of August 13, 2024.

ADDRESSES:

AD Docket: You may examine the AD docket at regulations.gov under Docket No. FAA-2024-0042; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2024-0042.

Other Related Service Information: For Airbus Helicopters service information, contact Airbus Helicopters, 2701 North Forum Drive, Grand Prairie, TX 75052; phone (972) 641-0000 or (800) 232-0323; fax (972) 641-3775; or at airbus.com/en/products-services/helicopters/hcare-services/airbusworld.

FOR FURTHER INFORMATION CONTACT: Dan McCully, Aviation Safety Engineer, FAA, 1600 Stewart Avenue, Suite 410, Westbury, NY 11590; phone: (781) 238-7244; email: william.mccully@faa.gov.

SUPPLEMENTARY INFORMATION:

Background

EASA, which is the Technical Agent for the Member States of the European Union, has issued EASA AD 2023-0095, dated May 8, 2023 (EASA AD 2023-0095), to correct an unsafe condition on Airbus Helicopters AS 332 C, AS 332 C1, AS 332 L, AS 332 L1, AS 332 L2, and EC 225 LP helicopters, all serial numbers.

The FAA issued a notice of proposed rulemaking (NPRM) to amend 14 CFR part 39 by adding an AD that would apply to all Airbus Helicopters Model AS332C, AS332C1, AS332L, AS332L1, AS332L2, and EC225LP helicopters. The NPRM published in the Federal Register on February 2, 2024 (89 FR 7302). The NPRM was prompted by a report of a report of cracks on the bowl due to over-torquing.

The NPRM proposed to require accomplishing the actions specified in EASA AD 2023-0095, as incorporated by reference, except for any differences identified as exceptions in the regulatory text of this AD and except as discussed under “Differences Between this AD and the EASA AD.” The FAA is issuing this AD to address the unsafe condition on these products.

You may examine EASA AD 2023-0095 in the AD docket at regulations.gov under Docket No. FAA-2024-0042.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Material Under 1 CFR Part 51

EASA AD 2023-0095 requires a one-time inspection of the bowls of the LH and RH fuel filters for cracks and seepage. Depending on the inspection results, EASA AD 2023-0095 requires replacement of an affected part with a serviceable part, as defined in EASA AD 2023-0095. EASA AD 2023-0095 also allows certain fuel filters to be installed on a helicopter if certain actions are accomplished.

This material is reasonably available because the interested parties have access to it through their normal course of business or by the means identified in the ADDRESSES section.

Other Related Material

The FAA also reviewed Airbus Helicopters Alert Service Bulletin (ASB) No. AS332-28.00.88, and Airbus Helicopters ASB No. EC225-28A030, both Revision 0, and both dated April 25, 2023. This service information specifies procedures for a visual inspection the bowls on the RH and LH fuel filters for any cracks and seepage. Depending on the inspection results, this service information specifies procedures to remove and replace an affected fuel filter. This service information also specifies sending an affected fuel filter along with certain information to Airbus Helicopters, and performing an aspect check after replacement of the affected parts.

Differences Between This AD and the EASA AD

EASA AD 2023-0095 requires replacing each affected fuel filter with a serviceable fuel filter if any discrepancy is detected, whereas this AD requires removing each affected fuel filter from service and replacing it with a serviceable fuel filter, as described in EASA AD 2023-0095, if any crack or seepage is detected.

Service information referenced in EASA AD 2023-0095 specifies reporting certain information and sending affected parts to Airbus Helicopters, whereas this AD does not require sending information or parts to Airbus Helicopters.

Costs of Compliance

The FAA estimates that this AD affects 40 helicopters of U.S. registry. Labor rates are estimated at $85 per work-hour. Based on these numbers, the FAA estimates the following costs to comply with this AD.

Inspecting each bowl for cracks (with 2 bowls per helicopter) and seepage will take approximately 1 work-hour for an estimated cost of $170 per helicopter and $6,800 for the U.S. fleet.

Replacing an affected fuel filter with a serviceable fuel filter will take approximately 1 work-hour and parts will cost approximately $6,290 for an estimated cost of $6,375 per fuel filter replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-13 Airbus Helicopters: Amendment 39-22759; Docket No. FAA-2024-0042; Project Identifier MCAI-2023-00659-R.

(a) Effective Date

This airworthiness directive (AD) is effective August 13, 2024.

(b) Affected ADs

None.

(c) Applicability

This AD applies to all Airbus Helicopters Model AS332C, AS332C1, AS332L, AS332L1, AS332L2, and EC225LP helicopters, certificated in any category.

(d) Subject

Joint Aircraft Service Component (JASC) Code: 2821, Aircraft fuel filter/strainer.

(e) Unsafe Condition

This AD was prompted by a report of cracks on the fuel filter bowl (bowl) due to over-torquing. The FAA is proposing this AD to inspect for cracks and seepage on the bowl of the left-hand (LH) and right-hand (RH) fuel filter. The unsafe condition, if not addressed, could result in failure of the bowl, in-flight shutdown, and subsequent reduced control of the helicopter.

(f) Compliance

Comply with this AD within the compliance times specified, unless already done.

(g) Requirements

Except as specified in paragraphs (h) and (i) of this AD: Comply with all required actions and compliance times specified in, and in accordance with, European Union Aviation Safety Agency (EASA) AD 2023-0095, dated May 8, 2023 (EASA AD 2023-0095).

(h) Exceptions to EASA AD 2023-0095

(1) Where EASA AD 2023-0095 requires compliance in terms of flight hours, this AD requires using hours time-in-service.

(2) Where EASA AD 2023-0095 refers to its effective date, this AD requires using the effective date of this AD.

(3) Where paragraph (1) of EASA AD 2023-0095 requires an inspection “in accordance with the instructions of the applicable ASB,” for this AD, replace that text with, “in accordance with paragraph 3.B.2.a. of the applicable ASB, except you are not required to comply with paragraph 3.B.2.b or 3.B.3.”

(4) Where paragraph (2) of EASA AD 2023-0095 states “replace the affected part with a serviceable part in accordance with the instructions of the applicable ASB,” this AD requires replacing those words with “remove the affected part from service and replace it with a serviceable part.”

(5) Where the service information referenced in EASA AD 2023-0095 specifies to “make sure that there is no crack and no seepage on the bowls (a) of the RH and LH fuel filters (b),” this AD requires replacing those words with “Inspect for any crack and seepage on the bowls (a) of the RH and LH fuel filters (b).”

(6) Where the service information referenced in EASA AD 2023-0095 specifies “If there is a crack and/or a seepage on the bowls (a) of the RH and LH fuel filters (b), comply with paragraph 3.B.2.b.,” this AD requires replacing that text with “If there is a crack or seepage on the bowls (a) of the RH or LH fuel filter (b), before further flight, remove the affected part from service and replace with a serviceable part, as defined in EASA AD 2023-0095.”

(7) This AD does not adopt the “Remarks” section of EASA AD 2023-0095.

(i) No Reporting Requirement

Although the service information referenced in EASA AD 2023-0095 specifies to submit certain information and return parts to the manufacturer, this AD does not include those requirements.

(j) Special Flight Permit

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Dan McCully, Aviation Safety Engineer, FAA, 1600 Stewart Avenue, Suite 410, Westbury, NY 11590; phone (781) 238-7244; email william.mccully@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0095, dated May 8, 2023.

(ii) [Reserved]

(3) For EASA AD 2023-0095, contact EASA, Konrad-Adenauer-Ufer 3, 50668 Cologne, Germany; telephone +49 221 8999 000; email ADs@easa.europa.eu; internet easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222 5110.

(5) You may view this material at the National Archives and Records Administration (NARA). For information on the availability of this material at NARA, visit www.archives.gov/federal-register/cfr/ibr-locations or email fr.inspection@nara.gov.

Issued on May 17, 2024.
Victor Wicklund,
Deputy Director, Compliance & Airworthiness Division, Aircraft Certification Service.

[FR Doc. 2024-14880 Filed 7-8-24; 8:45 am]

BILLING CODE 4910-13-P